ENVIRONMENTAL PROTECTION AGENCY

40 CFR Part 52

[EPA-R05-OAR-2014-0123; FRL-9920-13-Region 5]

Approval and Promulgation of Air Quality Implementation Plans; Illinois; Withdrawal of Direct Final Rule

AGENCY: Environmental Protection Agency (EPA).

ACTION: Withdrawal of direct final rule.

SUMMARY: Due to the receipt of an adverse comment, the Environmental Protection Agency (EPA) is withdrawing the October 17, 2014, direct final rule approving a revision to the Illinois State Implementation Plan (SIP) to phase out the requirements of the Stage II Vapor Recovery program.

DATES: The direct final rule published at 79 FR 62352 on October 17, 2014, is withdrawn effective December 10, 2014.

FOR FURTHER INFORMATION CONTACT: Francisco J. Acevedo, Mobile Source Program Manager, Control Strategies Section, Air Programs Branch (AR-18J), Environmental Protection Agency, Region 5, 77 West Jackson Boulevard, Chicago, Illinois 60604, (312) 886-6061, acevedo.francisco@epa.gov.

SUPPLEMENTARY INFORMATION: The Illinois Environmental Protection Agency submitted this revision as a modification to the SIP for gasoline vapor recovery requirements. In the direct final rule, EPA stated that if adverse comments were submitted by November 17, 2014, the rule would be withdrawn and not take effect. On October 20, 2014, EPA received an adverse comment and, therefore, is withdrawing the direct final rule. EPA will address the comment in a subsequent final action based upon the proposed action also published on October 17, 2014. EPA will not institute a second comment period on this action.

List of Subjects in 40 CFR Part 52

Environmental protection, Air pollution control, Incorporation by reference, Oxides of nitrogen, Ozone, Volatile organic compounds.

Authority: 42 U.S.C. 7401 et seq.

Dated: November 24, 2014.
Susan Hedman,
Regional Administrator, Region 5.

PART 52—APPROVAL AND PROMULGATION OF IMPLEMENTATION PLANS

Accordingly, the amendment to 40 CFR 52.720 published in the Federal Register on October 17, 2014 (79 FR 62352) on page 62356 is withdrawn effective December 10, 2014.

[FR Doc. 2014-28803 Filed 12-9-14; 8:45 am]

BILLING CODE 6560-50-P